DEPARTMENT OF HOMELAND SECURITY

U.S. Coast Guard

[Docket No. USCG-2000-7833]

Final Programmatic Environmental Impact Statement for Vessel and Facility Response Plans for Oil: 2003 Removal Equipment Requirements and Alternative Technology Revisions

AGENCY: U.S. Coast Guard, DHS.

ACTION: Notice of availability and request for comments.

SUMMARY: The Coast Guard announces the availability of the Final Programmatic Environmental Impact Statement (FPEIS) for the rulemaking entitled Vessel and Facility Response Plans for Oil: 2003 Removal Equipment Requirements and Alternative Technology Revisions (Docket No. USCG-2001-8661). The FPEIS assesses the potential environmental impacts from an increase of oil removal capability requirements for tank vessels and marine transportation-related (MTR) facilities. We request your comments on the FPEIS.

DATES: Comments and related material must either be submitted to our online docket via http://www.regulations.gov on or before July 27, 2009 or reach the Docket Management Facility by that date.

ADDRESSES: You may submit comments identified by Coast Guard docket number USCG-2000-7833 using any of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or e-mail Gregory Kirkbride, U.S. Coast Guard, telephone 202-372-1479, e-mail Gregory.B.Kirkbride@uscg.mil. If you have questions on viewing or submitting material to the docket, call Renee V. Wright, Program Manager, Docket Operations, telephone 202-366-9826.

SUPPLEMENTARY INFORMATION:

Public Participation and Request for Comments

We encourage you to submit comments and related material on the FPEIS. All comments received will be posted, without change, to http://www.regulations.gov and will include any personal information you have provided.

Submitting comments: If you submit a comment, please include the docket number (USCG-2000-7833) for this notice and provide a reason for each suggestion or recommendation. You may submit your comments and material online, or by fax, mail, or hand delivery, but please use only one of these means. We recommend that you include your name and a mailing address, an e-mail address, or a phone number in the body of your document so that we can contact you if we have questions regarding your submission.

To submit your comment online, go to http://www.regulations.gov, select the Advance Docket Search option on the right side of the screen, insert “USCG-2000-7833” in the Docket ID box, press Enter, and then click on the balloon shape in the Actions column. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments and the FPEIS: To view the comments and the FPEIS, go to http://www.regulations.gov, select the Advanced Docket Search option on the right side of the screen, insert “USCG-2000-7833” in the Docket ID box, press Enter, and then click on the item in the Docket ID column. If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets using the name of the individual submitting the comment (or signing the comment, if submitted on behalf of an association, business, labor union, etc.). You may review a Privacy Act system of records notice regarding our public dockets in the January 17, 2008, issue of the Federal Register (73 FR 3316).

Background and Purpose

We have prepared a Final Programmatic Environmental Impact Statement (FPEIS) for the rulemaking entitled Vessel and Facility Response Plans for Oil: 2003 Removal Equipment Requirements and Alternative Technology Revisions (1625-AA26). See “Viewing the comments and the FPEIS” above. The FPEIS examines the reasonable alternatives and potential environmental impacts from an increase of oil removal capability requirements for tank vessels and marine transportation-related (MTR) facilities. The FPEIS recommends Alternative 5 as the preferred alternative for increasing oil removal capability. Alternative 5 would require spill removal plan holders to maintain on-water mechanical recovery capability at current levels, establish a dispersant application capability, and establish aerial tracking capability. We are requesting your comments on environmental concerns that you may have related to the FPEIS.

The Oil Pollution Act of 1990 (OPA 90) (Pub. L. 101-380) and Executive Order 12777 authorized the Coast Guard to issue regulations requiring owners and operators of tank vessels and MTR facilities to prepare and submit response plans, for approval, to the Coast Guard. OPA 90 also requires that owners and operators conduct their operations in accordance with those Coast Guard approved response plans.

In 1993, the Coast Guard published interim tank vessel and MTR facility response plan regulations (58 FR 7424, February 5, 1993 and 58 FR 7730 February 5, 1993, respectively). The Coast Guard finalized those regulations in 1996 (tank vessels, 61 FR 1052, January 12, 1996) (MTR facilities 61 FR 7890, February 29, 1996). These regulations contain minimum on-water oil removal equipment requirements that planholders transporting or transferring petroleum oil are required to meet when planning for an oil discharge. See 33 CFR part 155, subpart D for tank vessels; and 33 CFR 154, subpart F for MTR facilities. These regulations also state that the Coast Guard will periodically review oil removal equipment requirements to determine if increases in equipment and additional requirements for new response technologies are practicable. 33 CFR 154.1045(n) and 155.1050(p).

On January 27, 1998, the Coast Guard published a notice requesting comments (63 FR 3861) regarding our intent to conduct a review of response plan oil removal equipment requirements. In the notice, we stated that the 1993 removal equipment requirements would remain in effect pending the results of that review, and that the removal equipment requirement increases, as originally scheduled, would not be implemented until the review was complete. On June 24, 1998, the Coast Guard published a Notice of Meetings (63 FR 34500) that announced three public workshops. The workshops were set up to solicit comments on potential changes to removal equipment requirements within the response plan regulations (33 CFR parts 153, 154 and 155) for mechanical recovery, dispersants, and other spill removal technologies. Based on comments in response to the notice of Request for Comments and the three workshops, the Coast Guard commissioned an in-depth assessment of advances in oil-spill response equipment since 1993 (USCG-1998-3350, comments on the notice; and USCG-1998-3350-0048, -0049, and -0050, summary reports of the public workshops). The Coast Guard completed the assessment in May 1999 (USCG-1998-3350-0074). Based on the recommendations contained in the assessment, the Coast Guard published a Notice of Decision (65 FR 710, January 6, 2000) that implemented a 25 percent increase for on-water mechanical recovery equipment for response plans of MTR facilities and tank vessels, effective April 6, 2000.

In 2002, the Coast Guard published the Vessel and Facility Response Plans for Oil: 2003 Removal Requirements and Alternative Technology Revisions NPRM to evaluate the potential for additional increases in mechanical on-water recovery and new requirements for other response technologies (67 FR 63331, October 11, 2002). The NPRM described five regulatory alternatives (including a “no action” alternative) which emphasized mechanical and non-mechanical response assets. In addition to addressing different modes of oil-spill response, the alternatives included differing capabilities within each response mode. On November 19, 2002, we published a notice of public meeting and extension of the comment period (67 FR 69697) for the NPRM. The meeting was held on December 18, 2002, at Coast Guard Headquarters in Washington, DC, and the comment period closed on April 8, 2003.

As part of the rulemaking effort, the Coast Guard published a Notice of Intent to prepare and circulate a Draft Programmatic Environmental Impact Statement (DPEIS) (65 FR 53335, September 1, 2000). On June 1, 2005, the Coast Guard published the DPEIS (70 FR 31487) to ensure that a broad range of environmental issues were adequately considered in the rulemaking. Both documents requested input from the public on environmental concerns related to the alternatives for increasing spill removal equipment requirements for an oil discharge. The information obtained from the public, in combination with Area Committee and Regional Response Team investigations, led to our determination that mechanical recovery, in-situ burning, and chemical dispersion met the criterion to increase the response plan equipment capability requirements, which could potentially reduce the amount of spilled oil reaching sensitive marine resources.

The FPEIS describes the reasonable alternatives that were evaluated, the affected environment, and the environmental impacts associated with the alternatives on the resources analyzed. As a programmatic document, the FPEIS covers general issues in a broad, program-oriented analysis. The information contained in the FPEIS is required in order to comply with the National Environmental Policy Act.

This notice is issued under authority of 5 U.S.C. 552(a).

Dated: June 18, 2009.
J. G. Lantz,
Director of Commercial Regulations and Standards, U.S. Coast Guard.

[FR Doc. E9-14945 Filed 6-24-09; 8:45 am]

BILLING CODE 4910-15-P